DEPARTMENT OF STATE

[Public Notice 9226]

Notice of Public Meeting

The Department of State will conduct an open meeting at 9 a.m. on Wednesday, September 2, 2015, in Conference Room 8-9-10 of the Department of Transportation (DOT) Headquarters Conference Center, West Building, 1200 New Jersey Avenue SE., Washington, DC 20590. The primary purpose of the meeting is to prepare for the second Session of the International Maritime Organization's (IMO) Sub-Committee on Carriage of Cargoes and Containers to be held at the IMO Headquarters, United Kingdom, September 14-18, 2015.

The agenda items to be considered include:

—Adoption of the agenda

—Decisions of other IMO bodies

—Amendments to the IGF Code and development of guidelines for low-flashpoint fuels

—Safety requirements for carriage of liquefied hydrogen in bulk

—Amendments to the IMSBC Code and supplements

—Amendments to the IMDG Code and supplements

—Amendments to CSC 1972 and associated circulars

—Revised Guidelines for packing of cargo transport units

—Unified interpretation to provisions of IMO safety, security and environment related Conventions

—Consideration of reports of incidents involving dangerous goods or marine pollutants in packaged form on board ships or in port areas

—Mandatory requirements for classification and declaration of solid bulk cargoes as harmful to the marine environment

—Biennial agenda and provisional agenda for CCC 3

—Election of Chairman and Vice-Chairman for 2016

—Any other business

—Report to the Committees

Members of the public may attend this meeting up to the seating capacity of the room. Upon request, members of the public may also participate via teleconference, up to the capacity of the teleconference phone line. To facilitate the building security process, and to request reasonable accommodation, those who plan to attend, or participate via the teleconference line, should contact the meeting coordinator, Ms. Amy Parker, by email at Amy.M.Parker@uscg.mil, by phone at (202) 372-1423, or in writing at 2703 Martin Luther King Jr. Ave. SE., Stop 7509, Washington, DC 20593-7509, not later than August 24, 2015, or 7 business days prior to the meeting. Requests made after August 24, 2015 might not be able to be accommodated. Please note that due to security considerations, a valid, government issued photo identification must be presented to gain entrance to the DOT Headquarters building. DOT Headquarters is accessible by metro via the Navy Yard Metrorail Station, taxi, and privately owned conveyance. However, parking in the vicinity of the building is extremely limited. Additional information regarding this and other IMO-related public meetings may be found at: www.uscg.mil/imo.

Dated: August 10, 2015.
Jonathan W. Burby,
Coast Guard Liaison Officer, Office of Ocean and Polar Affairs Department of State.

[FR Doc. 2015-20490 Filed 8-18-15; 8:45 am]

BILLING CODE 4710-09-P